DEPARTMENT OF DEFENSE

Department of the Army; Corps of Engineers

Intent To Prepare a Draft Programmatic Environmental Impact Statement for the Near-Term Ecosystem Restoration Plan for the Louisiana Coastal Area

Correction

In notice document 04-7967 beginning on page 18552 in the issue of Thursday, April 8, 2004, make the following corrections:

1. On page 18553, in the third column, in the 24th line from the top, “march” should read “marsh”.

2. On the same page, in the same column, in the 38th line from the top, “march” should read “marsh”.

[FR Doc. C4-7967 Filed 4-13-04; 8:45 am]

BILLING CODE 1505-01-D

DEPARTMENT OF THE INTERIOR

National Park Service

Notice of Inventory Completion: The Colorado College, Colorado Springs, CO

Correction

The correct text of notice document 04-8170 was inadvertently left out of the issue of Monday, April 12, 2004. It is being published in Separate Part IV in this issue of the Federal Register.

[FR Doc. C4-8170 Filed 4-13-04; 8:45 am]

BILLING CODE 1505-01-D